DEPARTMENT OF LABOR

Occupational Safety and Health Administration

[Docket No. OSHA-2006-0048]

NSF International; Expansion of Recognition

AGENCY: Occupational Safety and Health Administration (OSHA), Labor.

ACTION: Notice.

SUMMARY: This notice announces the Occupational Safety and Health Administration's final decision expanding the recognition of NSF International (NSF) as a Nationally Recognized Testing Laboratory under 29 CFR 1910.7.

DATES: The expansion of recognition becomes effective on January 23, 2009.

FOR FURTHER INFORMATION CONTACT: MaryAnn Garrahan, Director, Office of Technical Programs and Coordination Activities, NRTL Program, Occupational Safety and Health Administration, U.S. Department of Labor, 200 Constitution Avenue, NW., Room N-3655, Washington, DC 20210, or phone (202) 693-2110.

SUPPLEMENTARY INFORMATION:

Notice of Final Decision

The Occupational Safety and Health Administration (OSHA) hereby gives notice of the expansion of recognition of NSF International (NSF), as a Nationally Recognized Testing Laboratory (NRTL). NSF's expansion covers the use of additional test standards. OSHA's current scope of recognition for NSF may be found in the following informational Web page: http://www.osha.gov/dts/otpca/nrtl/nsf.html.

OSHA recognition of an NRTL signifies that the organization has met the legal requirements in Section 1910.7 of Title 29, Code of Federal Regulations (29 CFR 1910.7). Recognition is an acknowledgment that the organization can perform independent safety testing and certification of the specific products covered within its scope of recognition and is not a delegation or grant of government authority. As a result of recognition, employers may use products approved by the NRTL to meet OSHA standards that require testing and certification.

The Agency processes applications by an NRTL for initial recognition, or for expansion or renewal of this recognition, following requirements in Appendix A to 29 CFR 1910.7. This appendix requires that the Agency publish two notices in the Federal Register in processing an application. In the first notice, OSHA announces the application and provides its preliminary finding and, in the second notice, the Agency provides its final decision on the application. These notices set forth the NRTL's scope of recognition or modifications of that scope. We maintain an informational Web page for each NRTL that details its scope of recognition. These pages can be accessed from our Web site at http://www.osha.gov/dts/otpca/nrtl/index.html.

In an earlier action involving NSF, OSHA issued a Federal Register notice to grant NSF's previous application, which was for an expansion of recognition (71 FR 70431, December 4, 2006).

NSF submitted another application, dated October 23, 2007 (see Exhibit 18-1, as cited in the preliminary notice), to expand its recognition to include one additional test standard. The NRTL Program staff determined that the standard was an “appropriate test standard” within the meaning of 29 CFR 1910.7(c). In connection with this request, OSHA did not perform an on-site review of NSF's NRTL testing facilities. However, NRTL Program assessment staff reviewed information pertinent to the request and recommended that NSF's recognition be expanded to include the additional test standard listed below (see Exhibit 18-2, as cited in the preliminary notice). Therefore, OSHA is approving this one test standard for the expansion.

Based on this review, OSHA published a preliminary notice announcing the expansion application in the Federal Register on August 29, 2008 (73 FR 51008). Comments were requested by September 15, 2008, but no comments were received in response to this notice. OSHA is now proceeding with this final notice to grant NSF's expansion application.

You may obtain or review copies of all public documents pertaining to the NSF application by accessing http://www.regulations.gov, which is the Federal eRulemaking Portal, or by contacting the Docket Office, Occupational Safety and Health Administration, U.S. Department of Labor, 200 Constitution Avenue, NW., Room N-2625, Washington, DC 20210. Docket No. OSHA-2006-0048 contains all materials in the record concerning NSF's recognition.

The current address of the NSF facility (site) already recognized by OSHA is: NSF International, 789 Dixboro Road, Ann Arbor, MI 48105.

Final Decision and Order

NRTL Program staff has examined the application, the assessor's recommendation, and other pertinent information. Based on this examination and the assessor's recommendation, OSHA finds that NSF meets the requirements of 29 CFR 1910.7 for expansion of its recognition, subject to the limitation and conditions listed below. Pursuant to the authority in 29 CFR 1910.7, OSHA hereby expands the recognition of NSF, subject to this limitation and these conditions.

Limitation

OSHA limits the expansion of NSF's recognition to testing and certification of products for demonstration of conformance to the following test standard, OSHA determined is an appropriate test standard within the meaning of 29 CFR 1910.7(c): UL 1285 Pipe and Couplings, Polyvinyl Chloride (PVC), for Underground Fire Service.

The designation and title of this test standard was current at the time of the preparation of the preliminary notice.

OSHA's recognition of NSF, or any NRTL, for a particular test standard is limited to equipment or materials (i.e., products) for which OSHA standards require third-party testing and certification before use in the workplace. Consequently, if a test standard also covers any product(s) for which OSHA does not require such testing and certification, an NRTL's scope of recognition does not include that product(s).

The test standard listed above may be approved as an American National Standard by the American National Standards Institute (ANSI). However, for convenience, we use the designation of the standards-developing organization for the standard, as opposed to the ANSI designation. You may contact ANSI to find out whether a test standard is currently ANSI approved.

Conditions

NSF also must abide by the following conditions of the recognition, in addition to those conditions already required by 29 CFR 1910.7:

1. NSF must allow OSHA access to its facilities and records to ascertain continuing compliance with the terms of its recognition and to perform investigations, as OSHA deems necessary;

2. If NSF has reason to doubt the efficacy of any test standard it is using under this program, it must promptly inform the test standard-developing organization of this concern and provide that organization with appropriate relevant information on which its concern is based;

3. NSF must not engage in, or permit others to engage in, any misrepresentation of the scope or conditions of its recognition. As part of this condition, NSF agrees that it will allow no representation that it is either a recognized or an accredited Nationally Recognized Testing Laboratory (NRTL) without clearly indicating the specific equipment or material to which this recognition applies, and also clearly indicating that its recognition is limited to certain products;

4. NSF must inform OSHA as soon as possible, in writing, of any change of ownership, facilities, or key personnel, and of any major changes in its operations as an NRTL, including details of these changes;

5. NSF will meet all the terms of its recognition and will comply with all OSHA policies pertaining to this recognition; and

6. NSF will continue to meet the requirements for recognition in all areas where it has been recognized.

Authority and Signature

Thomas M. Stohler, Acting Assistant Secretary of Labor for Occupational Safety and Health, U.S. Department of Labor, 200 Constitution Avenue, NW., Washington, DC 20210, directed the preparation of this notice. Accordingly, the Agency is issuing this notice pursuant to Sections 6(b) and 8(g) of the Occupational Safety and Health Act of 1970 (29 U.S.C. 655 and 657), Secretary of Labor's Order 5-2007 (72 FR 31160), and 29 CFR 1911.

Signed at Washington, DC, on January 15, 2009.
Thomas M. Stohler
Acting Assistant Secretary of Labor for Occupational Safety and Health.

[FR Doc. E9-1290 Filed 1-22-09; 8:45 am]

BILLING CODE 4510-26-P